CONSUMER PRODUCT SAFETY COMMISSION

[Docket No. CPSC-2009-0073]

Agency Information Collection Activities; Proposed Collection; Comment Request; Virginia Graeme Baker Pool and Spa Safety Act; Compliance Form

AGENCY: Consumer Product Safety Commission.

ACTION: Notice.

SUMMARY: As required by the Paperwork Reduction Act of 1995, the Consumer Product Safety Commission (CPSC) requests comments on a proposed extension of approval of a collection of information regarding a form used to verify whether pools and spas are in compliance with the Virginia Graeme Baker Pool and Spa Safety Act. The Office of Management and Budget (OMB) previously approved the collection of information under OMB Control No. 3041-0142. CPSC will consider all comments received in response to this notice before requesting an extension of approval of this collection of information from OMB.

DATES: Submit written or electronic comments on the collection of information by October 17, 2022.

ADDRESSES: You may submit comments, identified by Docket No. CPSC-2009-0073, by any of the following methods:

Electronic Submissions: Submit electronic comments to the Federal eRulemaking Portal at: https://www.regulations.gov. Follow the instructions for submitting comments. Do not submit through this website: confidential business information, trade secret information, or other sensitive or protected information that you do not want to be available to the public. CPSC typically does not accept comments submitted by electronic mail (email), except as described below.

Mail/Hand Delivery/Courier Written Submissions: CPSC encourages you to submit electronic comments by using the Federal eRulemaking Portal. You may, however, submit comments by mail, hand delivery, or courier to: Office of the Secretary, Consumer Product Safety Commission, 4330 East West Highway, Bethesda, MD 20814; telephone (301) 504-7479.

Instructions: All submissions must include the agency name and docket number. CPSC may post all comments without change, including any personal identifiers, contact information, or other personal information provided, to: https://www.regulations.gov. If you wish to submit confidential business information, trade secret information, or other sensitive or protected information that you do not want to be available to the public, you must submit such comments by mail, hand delivery, or courier, or by email to: cpsc-os@cpsc.gov.

Docket: For access to the docket to view the verification of compliance form “2022 VGBA Form”, or the comments received, go to: https://www.regulations.gov, and insert the docket number, CPSC-2009-0073, into the “Search” box, and follow the prompts.

Electronic Submissions: Submit electronic comments to the Federal eRulemaking Portal at: https://www.regulations.gov. Follow the instructions for submitting comments. The CPSC does not accept comments submitted by electronic mail (email), except through www.regulations.gov. The CPSC encourages you to submit electronic comments by using the Federal eRulemaking Portal, as described above.

FOR FURTHER INFORMATION CONTACT: Cynthia Gillham, Consumer Product Safety Commission, 4330 East West Highway, Bethesda, MD 20814; (301) 504-7991, or by email to: cgillham@cpsc.gov.

SUPPLEMENTARY INFORMATION: CPSC seeks to renew the following currently approved collection of information:

Title: Virginia Graeme Baker Pool and Spa Safety Act Verification of Compliance Form

OMB Number: 3041-0142

Type of Review: Renewal of collection

Frequency of Response: On occasion

Affected Public: Public pools and spa facilities

Estimated Number of Respondents: 50 pools or facilities

Estimated Time per Response: 3 hours to inspect a pool or spa facility

Total Estimated Annual Burden: The total testing burden hours are 150 (50 inspections × 3 hours per inspection). We estimate there will be 50 inspections conducted throughout the fiscal year based on CPSC plans for inspections, past compliance rates and trends, as well as available staff resources. We estimate that hourly compensation for the time required for inspecting is $64.02 (U.S. Bureau of Labor Statistics, “Employer Costs for Employee Compensation,” March 2022, Table 4, total compensation for management, professional, and related workers in private service-producing industries: https://www.bls.gov/news.release/ecec.t04.htm). The total annual cost of time to inspect all facilities is estimated to be $9,603 ($64.02 × 150).

General Description of Collection

The Virginia Graeme Baker Pool and Spa Safety Act (Act), 15 U.S.C. Ch. 106, applies to public swimming pools and spas, and it requires that each swimming pool and spa drain cover manufactured, distributed, or entered into commerce in the United States shall conform to the entrapment protection standards of the ASME/ANSI A112.19.8 performance standard or any successor standard regulating such swimming pool or drain cover under section 1404(b) of the Act.

On August 5, 2011, the CPSC published a final rule incorporating by reference ANSI/APSP-16 2011 as the successor standard, effective September 6, 2011. 76 FR 47436. On May 24, 2019, the CPSC published a direct final rule incorporating by reference ANSI/APSP-16 2017 as the next successor standard. 84 FR 24021. The Act requires that, in addition to having the anti-entrapment devices or systems, each public pool and spa in the United States with a single main drain other than an unblockable drain shall be equipped with one or more of the following devices or systems designed to prevent entrapment by pool or spa drains: a safety vacuum release system, suction-limiting vent system, gravity drainage system, automatic pump shut-off system or drain disablement. The CPSC will collect information through the verification of compliance form to identify drain covers, pools, and spas that do not meet the performance requirements in ANSI/APSP-16 2017 and the Act. CPSC staff or the designated State or local government official will take approximately 3 hours to inspect the pool and fill out the checklist on the verification of compliance form. The 2022 VGBA Form they will use is available for viewing at https://www.regulations.gov under docket number, CPSC-2009-0073, “Supporting and Related Material.”

Request for Comments

The CPSC solicits written comments from all interested persons about the proposed collection of information. The CPSC specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Abioye Mosheim,
Acting Secretary, Consumer Product Safety Commission.

[FR Doc. 2022-17655 Filed 8-16-22; 8:45 am]

BILLING CODE 6355-01-P